DEPARTMENT OF TRANSPORTATION

Federal Highway Administration

Environmental Impact Statement: Kings & Queens Counties, NY

AGENCY: Federal Highway Administration (FHWA), DOT.

ACTION: Notice of intent.

SUMMARY: The FHWA is issuing this Notice to advise the public that an Environmental Impact Statement (EIS) will be prepared for the rehabilitation or replacement of the Kosciusko Bridge, focusing on a 1.1-mile segment of the Brooklyn-Queens Expressway (BQE) from Morgan Avenue in Kings County to the Long Island Expressway (LIE) interchange in Queens County, both in New York State.

FOR FURTHER INFORMATION CONTACT:

Robert Arnold, Division Administrator, Federal Highway Administration, New York Division, Leo W. O'Brien Federal Building, 7th Floor, Clinton Avenue and North Pearl Street, Albany, New York, 12207 Telephone: (518) 431-4127.

or

Joseph Brown, P.E., Project Director, New York State Department of Transportation, Region 11, Hunters Point Plaza, 47-40 21St Street, Long Island City, New York 11101 Telephone: (718) 482-4683.

SUPPLEMENTARY INFORMATION: The FHWA, in cooperation with the New York State Department of Transportation (NYSDOT), will prepare an Environmental Impact Statement (EIS) that will study and document proposed improvements to the Kosciuszko Bridge, focusing on a 1.1-mile segment of the Brooklyn-Queens Expressway (BQE) portion of I-278, from Morgan Avenue in Kings County, to the Long Island Expressway (LIE) interchange in Queens County.

The Kosciuszko Bridge Project will address two primary problems identified with the bridge.

Traffic and Safety

The bridge, built in the 1930's, cannot safely carry the present volume of traffic. The bridge's narrow lanes (11 feet), steep grade (4 percent), lack of shoulders, and short merge/weave distances near ramps and interchange do not meet current highway design and safety standards. These design deficiencies, combined with approximately 170,000 vehicles using the bridge each day, result in the bridge operating at or near capacity during the AM and PM peak periods, severe congestion throughout much of the midday, heightened accident rates and the diversion of the highway traffic onto local streets.

Structural Conditions

The structural condition of the bridge is deteriorating. A number of interim repairs were completed by NYSDOT in recent years to correct identified problems and to extend the life of the bridge and viaduct. Recent inspections have indicated that, despite these aggressive maintenance efforts, the structural deficiencies are increasing. The frequent maintenance and repair efforts and their associated lane closures, while necessary to maintain the bridge, exacerbate the congestion and traffic diversion problems mentioned above, and do not provide a long-term solution to the structure's underlying problems.

The Alternatives Analysis will consider a wide range of alternatives designed to address these needs. A long list of alternatives will be developed during the public scoping process with input from all stakeholders. Each alternative will be screened for its ability to meet the project's goals and objectives. The most promising alternatives will be forwarded for detailed evaluation in the Draft Environmental Impact Statement (DEIS). These alternatives are expected to fall into one of the following categories: no build; Transportation System Management (TSM); rehabilitation with or without additional capacity; and replacement. The DEIS will assess the effect of the project alternatives on: Traffic and transportation; noise; air and water quality; land use and neighborhood character; recreational, cultural, and historic resources; hazardous waste and visual resources.

Letters describing the proposed action and soliciting comments will be sent to appropriate Federal, State, and local agencies, and to private organizations and citizens who have previously expressed interest in this project. The DEIS will be available for public and agency review and comment.

To insure that the full range of issues related to the proposed action is addressed and all significant issues identified, a series of scoping activities will be conducted. Pre-scoping activities have included open houses, meetings with involved agencies, and presentations to local community boards. The formal scoping process will involve:

1. Public scoping meetings, to be held in May 2002, to provide the public with information about the project, and to assist in formulating the scope of the environmental studies in the DEIS. NYSDOT will provide information about the project and the scope of the DEIS. Comments on the project and on the scope of the DEIS will then be received from the public, and NYSDOT personnel will be available to answer questions. The public can submit written comments or give oral comments to an on-site stenographer. Written comments will be received by NYSDOT until 30 days after the date of the last scoping meeting (see addresses below).

2. Scoping discussions with other agencies, particularly those with a direct or indirect involvement in the proposed project's corridor and project area.

The public scoping meetings are scheduled as follows:

Date & Time: May 14, 2002, 3 p.m. 9 p.m.

Location: Martin Luther High School, 60-02 Maspeth Avenue, Maspeth, NY 11378

Date & Time: May 21, 2002, 3 p.m. 9 p.m.

Location: St. Cecilia's Roman Catholic Church, 84 Herbert Street, Brooklyn, NY 11222

At these meetings, attendees may review displays describing the project with project staff available to respond to questions. At 4 p.m. and 7 p.m., NYSDOT will make a brief presentation describing the project and its goals. Following each presentation, interested persons can make oral statements concerning the project, possible alternatives, and the scope of the DEIS. A stenographer will record all statements at the meeting for inclusion in the meeting record. Written statements may also be submitted at the meeting or sent to the addresses above. Any comments received within 30 days of the date of the last scoping meeting will be made part of the record.

In addition, a public hearing will be held after publication of the DEIS to obtain comments on that document. Public notice will be given of the time and place of the DEIS public hearing.

Throughout the scoping process, comments and suggestions are invited on the DEIS scope from any interested parties. Comments or questions concerning this proposed action and the EIS should be directed to NYSDOT or FHWA at the addresses provided above. Comments can also be faxed to Mr. Joseph Brown, P.E., Project Director, NYSDOT, at (718) 482-6319 or e-mailed to kosciuszko@gw.dot.state.ny.us

The proposed project would be funded in part through Federal programs which assist State transportation agencies in the planning and development of an integrated, interconnected transportation system important to interstate commerce and travel by constructing and rehabilitating the National Highway System, including the Interstate System. (Catalog of Federal Domestic Assistance Program Numbher 20.205, Highway Research Planning and Construction. The regulations implementing Executive Order 12372, which foster State and local government coordination and review of proposed Federal financial assistance and direct Federal development, apply to this program).

Authority: 23 U.S.C. 315; 23 CFR 771.123]

Issued on: April 18, 2002.
Douglas P. Conlan,
District Engineer, Federal Highway Administration, Albany, New York.

[FR Doc. 02-10108 Filed 4-24-02; 8:45 am]

BILLING CODE 9410-22-M